THE BROADCASTING BOARD OF GOVERNORS

Notice of Membership of SES Performance Review Board

AGENCY: Broadcasting Board of Governors (BBG).

ACTION: Notice of Membership of SES Performance Review Board.

SUMMARY: Title 5 United States Code, Section 4314, requires that notice of the appointment of an individual to serve as a member of a performance review board (PRB) shall be published in the Federal Register. The following individuals have been appointed to serve as PRB members for BBG: Barbara J. Barger, Acting Deputy Director, Force Development, Manpower, Personnel and Services, U.S. Department of the Air Force; Angelique Crumbly, Director, Office of Management Policy, Budget and Performance, U.S. Agency for International Development; and Randy T. Streufert, Director, Office of Security, U.S. Agency for International Development.

ADDRESSES: Broadcasting Board of Governors, 330 Independence Ave., SW., Washington, DC 20237.

FOR FURTHER INFORMATION CONTACT: Donna S. Grace, Director, Office of Human Resources, 202-382-7500.

Jeffrey N. Trimble,
Executive Director, Broadcasting Board of Governors.

[FR Doc. 2010-13645 Filed 6-7-10; 8:45 am]

BILLING CODE 8610-01-P